DEPARTMENT OF ENERGY

Federal Energy Regulatory Commission

[Docket No. RD14-6-000]

Reliability Standards for Physical Security Measures; Notice of Designation of Commission Staff as Non-Decisional

With respect to an order issued by the Commission today in the above-captioned docket, pursuant to 18 CFR 385.2201(c)(3) (2013), the staff identified below from the Office of Electric Reliability are designated as non-decisional in deliberations by the Commission in this docket. Accordingly, these persons will not serve as advisors to the Commission or otherwise be involved in the decisional process in this proceeding. Likewise, as non-decisional staff, pursuant to 18 CFR 385.2201 (2013), they are prohibited from communicating with advisory staff concerning any deliberations in this docket.

The staff designated as non-decisional are:

Edward Franks

Regis Binder

David O'Connor

Mary Agnes Nimis

Justin Kelly

Andres Lopez

Dated: March 7, 2014.
Kimberly D. Bose,
Secretary.

[FR Doc. 2014-05628 Filed 3-13-14; 8:45 am]

BILLING CODE 6717-01-P